DEPARTMENT OF ENERGY

Federal Energy Regulatory Commission

Notice of Staff Attendance at North American Electric Reliability Corporation Meetings

The Federal Energy Regulatory Commission hereby gives notice that members of the Commission and/or Commission staff may attend the following meetings:

North American Electric Reliability Corporation: Member Representatives Committee and Board of Trustees Meetings, Board of Trustees Corporate Governance and Human Resources Committee, Finance and Audit Committee, Compliance Committee, and Technology and Security Committee Meetings

Westin Ottawa Hotel, 11 Colonel By Dr., Ottawa, ON K1N 9H4, Canada

August 16, 2023 (8:30 a.m.-6:00 p.m. Eastern)

August 17, 2023 (9:00 a.m.-12:00 p.m. Eastern)

Further information regarding these meetings may be found at: https://www.nerc.com/gov/bot/Pages/Calendar.aspx.

The discussions at the meetings, which are open to the public, may address matters at issue in the following Commission proceeding:

Docket No. EL23-69-000 Petition for Rulemaking

Docket No. EL21-99-000 Complaint

Docket No. RR23-1-000 North American Electric Reliability Corp.

For further information, please contact Leigh Anne Faugust, 202-502-6396, or Leigh.Faugust@ferc.gov.

Dated: August 10, 2023.
Debbie-Anne A. Reese,
Deputy Secretary.

[FR Doc. 2023-17610 Filed 8-15-23; 8:45 am]

BILLING CODE 6717-01-P